ENVIRONMENTAL PROTECTION AGENCY

40 CFR Part 60

[EPA-HQ-OAR-2009-0174; FRL-9927-80-OAR]

RIN 2060-AP63

Electronic Reporting and Recordkeeping Requirements for New Source Performance Standards; Extension of Comment Period

AGENCY: Environmental Protection Agency (EPA).

ACTION: Proposed rule; extension of public comment period.

SUMMARY: The Environmental Protection Agency (EPA) is announcing that the period for providing public comments on the March 20, 2015, proposed “Electronic Reporting and Recordkeeping Requirements for New Source Performance Standards” is being extended by 30 days.

DATES: Comments. The public comment period for the proposed rule published March 20, 2015 (80 FR 15100), is being extended by 30 days to June 18, 2015, in order to provide the public additional time to submit comments and supporting information.

ADDRESSES: Comments. Written comments on the proposed rule may be submitted to the EPA electronically, by mail, by facsimile or through hand delivery/courier. Please refer to the proposal (80 FR 15100) for the addresses and detailed instructions.

Docket. Publicly available documents relevant to this action are available for public inspection either electronically at http://www.regulations.gov or in hard copy at the EPA Docket Center, EPA WJC West Building, Room 3334, 1301 Constitution Ave. NW., Washington, DC 20004. The Public Reading Room is open from 8:30 a.m. to 4:30 p.m., Monday through Friday, excluding legal holidays. A reasonable fee may be charged for copying. The EPA has established the official public docket for this rulemaking under Docket ID No. EPA-HQ-OAR-2009-0174.

World Wide Web. The EPA Web site containing information for this rulemaking is at http://www.epa.gov/ttn/atw/eparules.html.

FOR FURTHER INFORMATION CONTACT: Ms. Gerri Garwood, Measurement Policy Group (MPG), Sector Policies and Programs Division (D243-05), Office of Air Quality Planning and Standards, U.S. Environmental Protection Agency, Research Triangle Park, North Carolina 27711, telephone number: (919) 541-2406; fax number: (919) 541-1039; and email address: garwood.gerri@epa.gov.

SUPPLEMENTARY INFORMATION:

Comment Period

After considering a request submitted by the Air Permitting Forum to extend the public comment period, the EPA has decided to extend the public comment period for an additional 30 days. Therefore, the public comment period will end on June 18, 2015, rather than May 19, 2015. This extension will ensure that the public has sufficient time to review and comment on all of the information available, including the proposed rule and other materials in the docket.

Dated: May 8, 2015.
Stephen D. Page,
Director.

[FR Doc. 2015-12100 Filed 5-18-15; 8:45 am]

BILLING CODE 6560-50-P